DEPARTMENT OF TRANSPORTATION

Federal Railroad Administration

[Docket Number FRA-2012-0029]

Petition for Waiver of Compliance

In accordance with Part 211 of Title 49 Code of Federal Regulations (CFR), this document provides the public notice that by a document dated February 28, 2012, Canadian Pacific Railway (CP) has petitioned the Federal Railroad Administration (FRA) for a waiver of compliance extension from certain provisions of the Federal railroad safety regulations contained at 49 CFR Sections 242.403(b), (c)(1)-(3), (d), (e)(1)-(4), (e)(6)-(11), (e)(13) and f(1)-(2). FRA assigned the petition Docket Number FRA-2012-0029.

The Confidential Close Call Reporting System (C3RS) pilot project for the CP Portage, WI, terminal was initially approved by FRA on March 3, 2008. In Docket Number FRA-2007-0008, CP requested and received a waiver of compliance from certain provisions of 49 CFR Part 240 to support its C3RS demonstration pilot project. In this petition, CP, the Brotherhood of Locomotive Engineers and Trainmen, and the United Transportation Union are requesting a waiver in order to shield the reporting employee(s) and the railroad from punitive sanctions that would otherwise arise as provided in selected sections of § 242.403.

A copy of the petition, as well as any written communications concerning the petition, is available for review online at http://www.regulations.gov and in person at the U.S. Department of Transportation's (DOT) Docket Operations Facility, 1200 New Jersey Ave. SE., W12-140, Washington, DC 20590. The Docket Operations Facility is open from 9 a.m. to 5 p.m., Monday through Friday, except Federal Holidays. If you do not have access to the Internet, please contact FRA's Docket Clerk at 202-493-6030 and the clerk will provide necessary information concerning the contents of the petition.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by September 10, 2012 will be considered by FRA before final action is taken. Comments received after that date will be considered as far as practicable.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78), or online at http://www.dot.gov/privacy.html.

Issued in Washington, DC, on July 19, 2012.
Robert C. Lauby,
Deputy Associate Administrator for Regulatory and Legislative Operations.

[FR Doc. 2012-18082 Filed 7-24-12; 8:45 am]

BILLING CODE 4910-06-P